DEPARTMENT OF DEFENSE

Office of the Secretary

[Transmittal No. 23-47]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 23-47, Policy Justification, and Sensitivity of Technology.

Dated: October 7, 2024.
Patricia L. Toppings,
OSD Federal Register Liaison Officer, Department of Defense.

BILLING CODE 6001-FR-P

BILLING CODE 6001-FR-C

Transmittal No. 23-47

Notice of Proposed Issuance of Letter of Offer Pursuant to Section 36(b)(1) of the Arms Export Control Act, as amended

(i) Prospective Purchaser: Government of Canada

(ii) Total Estimated Value:

Major Defense Equipment * | $3.9 billion
Other | $2.0 billion
TOTAL | $5.9 billion

(iii) Description and Quantity or Quantities of Articles or Services under Consideration for Purchase:

Major Defense Equipment (MDE):

Up to sixteen (16) P-8A Patrol Aircraft

Up to twenty-six (26) Multifunctional Information Distribution System Joint Tactical Radio System 5 (MIDS JTRS 5)

Up to thirty-eight (38) Embedded Global Positioning Systems (GPS)/Inertial Navigation Systems (EGIs) for the LN-251

Up to twenty-five (25) System Processor Replacements for AN/AAQ-24(V)N Large Aircraft Infrared Countermeasures (LAIRCM) System Processor Replacement (LSPR) with Exelis Embedded GPS Receiver (EGR) integrated with Selective Availability Anti-Spoofing Module (SAASM)

Up to twenty-two (22) Guardian Laser Transmitter Assemblies (GLTA) for the AN/AAQ-24(V)N

Non-MDE:

Also included are commercial engines; Tactical Open Mission Software (TOMS); Electro-Optical (E.O.) and Infrared (IR) MX-20HD; AN/AAQ-2 Acoustic System; AN/APY-10 Radar; AN/ALQ-240 Electronic Support Measures; NexGen Missile Warning Sensors; AN/ARC-210 RT-2036(C) Radios; AN/PRC-117G Manpack Radios including MPE-S type II with SAASM 3.7; AN/ALQ-213 Electronic Countermeasures; AN/ALE-47 Countermeasures Dispenser Systems; AN/UPX-43 Identification Friend or Foe (IFF) Interrogators; AN/APX-123A(V) IFF Digital Transponders; KIV-78 IFF Mode 4/5 Cryptographic Appliques; KIV-701A Cryptographic Core Modules; KY-100M, KY-58, KYV-5 for HF-121C radios; KG-175 Encryptor Network Convergence System; AN/PYQ-10 V3 Simple Key Loaders (SKL) with KOV-21 Cryptographic Appliques; Radiant Mercury Hardware and Software with ENTR(V)4 Receiver with Embedded Crypto for the Integrated Broadcast System (IBS); software; publications; Dual KIV-7M with Power Supply HFIP Channel Link Encryptor; Advanced Digital Antenna Production (ADAP) Antenna Electronics (AE); Advanced Digital Antenna Production (ADAP) Controlled Reception Pattern Antennas (CRPA); Control Interface Units (CIU) for AN/AAQ-24(V)N LAIRCM; aircraft spares; spare engines; support equipment; operational support systems; training; training devices; maintenance trainer/classrooms; engineering technical assistance (ETA); logistics technical assistance (LTA); Country Liaison Officer (CLO) support; Contractor Engineering Technical Services (CETS); Contractor Logistics Support (CLS); repair and return; transportation; aircraft ferry; other associated training and support; and other related elements of logistics and program support.

(iv) Military Department: Navy (CN-P-SAH)

(v) Prior Related Cases, if any: CN-P-FGC

(vi) Sales Commission, Fee, etc., Paid, Offered, or Agreed to be Paid: None

(vii) Sensitivity of Technology Contained in the Defense Article or Defense Services Proposed to be Sold: See Attached Annex

(viii) Date Report Delivered to Congress: June 27, 2023

* As defined in Section 47(6) of the Arms Export Control Act.

POLICY JUSTIFICATION

Canada—P-8A Aircraft and Associated Support

The Government of Canada has requested to buy up to sixteen (16) P-8A Patrol Aircraft; up to twenty-six (26) Multifunctional Information Distribution System Joint Tactical Radio System 5 (MIDS JTRS 5); up to thirty-eight (38) Embedded Global Positioning Systems (GPS)/Inertial Navigation Systems (EGIs) for the LN-251; up to twenty-five (25) System Processor Replacements for AN/AAQ-24(V)N Large Aircraft Infrared Countermeasures (LAIRCM) System Processor Replacement (LSPR) with Exelis Embedded GPS Receiver (EGR) integrated with SAASM; and up to twenty-two (22) Guardian Laser Transmitter Assemblies (GLTA) for the AN/AAQ-24(V)N. Also included are commercial engines; Tactical Open Mission Software (TOMS); Electro-Optical (E.O.) and Infrared (IR) MX-20HD; AN/AAQ-2 Acoustic System; AN/APY-10 Radar; AN/ALQ-240 Electronic Support Measures; NexGen Missile Warning Sensors; AN/ARC-210 RT-2036(C) Radios; AN/PRC-117G Manpack Radios including MPE-S type II with SAASM 3.7; AN/ALQ-213 Electronic Countermeasures; AN/ALE-47 Countermeasures Dispenser Systems; AN/UPX-43 Identification Friend or Foe (IFF) Interrogators; AN/APX-123A(V) IFF Digital Transponders; KIV-78 IFF Mode 4/5 Cryptographic Appliques; KIV-701A Cryptographic Core Modules; KY-100M, KY-58, KYV-5 for HF-121C radios; KG-175 Encryptor Network Convergence System; AN/PYQ-10 V3 Simple Key Loaders (SKL) with KOV-21 Cryptographic Appliques; Radiant Mercury Hardware and Software with ENTR(V)4 Receiver with Embedded Crypto for the Integrated Broadcast System (IBS); software; publications; Dual KIV-7M with Power Supply HFIP Channel Link Encryptor; Advanced Digital Antenna Production (ADAP) Antenna Electronics (AE); Advanced Digital Antenna Production (ADAP) Controlled Reception Pattern Antennas (CRPA); Control Interface Units (CIU) for AN/AAQ-24(V)N LAIRCM; aircraft spares; spare engines; support equipment; operational support systems; training; training devices; maintenance trainer/classrooms; engineering technical assistance (ETA); logistics technical assistance (LTA); Country Liaison Officer (CLO) support; Contractor Engineering Technical Services (CETS); Contractor Logistics Support (CLS); repair and return; transportation; aircraft ferry; other associated training and support; and other related elements of logistics and program support. The estimated total cost is $5.9 billion.

This proposed sale will support the foreign policy and national security objectives of the United States (U.S.) by helping to improve the military capability of Canada, a NATO ally that is an important force for ensuring political stability and economic progress, and a contributor to military, peacekeeping, and humanitarian operations around the world.

This proposed sale will increase Canadian maritime forces' interoperability with the U.S. and other allied forces, as well as their ability to contribute to missions of mutual interest. This will significantly improve network-centric warfare capability for the U.S. forces operating globally alongside Canada. Canada will have no difficulty absorbing this equipment into its armed forces.

The proposed sale of this equipment and support will not alter the basic military balance in the region.

The prime contractor will be The Boeing Company, Seattle, WA. There are a significant number of other companies under contract with the U.S. Navy that will provide components, systems, and engineering services during the execution of this effort. While the purchaser typically requests offsets, any offset agreement will be defined in future negotiations between the purchaser and the contractor(s).

Implementation of this proposed sale will require multiple trips by U.S. Government representatives and the assignment of contractor representatives to Canada on an intermittent basis over the life of the case to support delivery and integration of items and to provide supply support management, inventory control and equipment familiarization.

There will be no adverse impact on U.S. defense readiness as a result of this proposed sale.

Transmittal No. 23-47

Notice of Proposed Issuance of Letter of Offer Pursuant to Section 36(b)(l) of the Arms Export Control Act

Annex Item

No. vii

(vii) Sensitivity of Technology:

1. The P-8A Patrol Aircraft is a version of the Boeing 737-800 Next Generation (NG) commercial aircraft adapted for military uses. The P-8A will replace the CP-140 as Canada's long-range anti-submarine warfare (ASW), anti-surface warfare (ASuW), intelligence, surveillance, and reconnaissance (ISR) aircraft capable of broad-area, maritime, and littoral operations.

a. Tactical Open Mission Software (TOMS). Functions include environment planning, tactical aids, weapons planning aids, and data correlation. TOMS includes an algorithm for track fusion which automatically correlates tracks produced by on board and off board sensors.

b. Electro-Optical (E.O.) and Infrared (IR) MX-20HD. The E.O./IR system processes visible E.O. and IR spectrum (IR Focal Plane Array (FPA) and Turret Stabilization) to detect and image objects.

c. AN/AQQ-2 Acoustic System. The acoustic sensor system is integrated within the mission system as the primary sensor for the aircraft ASW missions. The system has multi-static active coherent (MAC) 64 sonobuoy processing capability and acoustic sensor prediction tools.

d. AN/APY-10 Radar. The aircraft radar is a direct derivative of the legacy AN/APS 137(V) installed in the CP-140. The radar capabilities include Global Positioning System (GPS) selective availability anti-spoofing monitoring (SAASM), Synthetic Aperture Radar (SAR) and Inverse Synthetic Aperture Radar (ISAR) imagery resolutions, and periscope detection mode.

e. AN/ALQ-240 Electronic Support Measures (ESM). This system provides real time capability for the automatic detection, location, measurement, and analysis of Radio Frequency (RF) signals and modes. Real time results are compared with a library of known emitters to perform emitter classification.

f. The P-8A Electronic Warfare Self Protection (EWSP) suite consists of the AN/ALQ-213 Electronic Warfare Management System (EWMS), AN/ALE-47 Countermeasures Dispensing System (CMDS), the NexGEN Missile Warning Sensors (MWS), AN/AAQ-24(V)N Large Aircraft Infrared Countermeasures (LAIRCM) System Processor Replacement (LSPR) with Exelis EGR integrated with SAASM, and the AN/AAQ-24(V)N Large Aircraft Infrared Countermeasures (LAIRCM) Guardian Laser Transmitter Assembly (GLTA) processors. The AN/AAQ-24(V)N LAIRCM is a self-contained, directed energy countermeasures system designed to protect aircraft from infrared guided surface-to-air missiles. The Electronic Warfare Self Protection (EWSP) includes threat information.

g. AN/ARC-210 RT-2036(C) Radio. The RT-2036(C) radios are capable of line of sight and beyond line of sight (SATCOM) and can transmit clear or secure voice using Single Channel Ground and Airborne Radio System (SINCGARS) or HAVEQUICK security features.

h. AN/PRC-117G Radio, Manpack. The AN/PRC-117G is a tactical radio that extends communications Beyond Line of Sight (BLOS) with abilities for simultaneous SATCOM voice and data communications. Situational awareness is enhanced by an embedded SAASM 3.7 GPS receiver.

i. Multifunctional Information Distribution System Joint Tactical Radio System (MIDS JTRS) 5, is an advanced Link-16 command, control, communications, and intelligence system incorporating high-capacity, jam-resistant, digital communication links for exchange of near real-time tactical information, including both data and vice, among air, ground, and sea elements.

j. The Embedded Global Positioning System (EGI)-Inertial Navigation System (INS)/LN-251 is a sensor that combines GPS and inertial sensor inputs to provide accurate location information for navigation and targeting.

k. AN/UPX-43 IFF Interrogator. The Identification Friend or Foe (IFF) AN/UPX-43 Interrogator system provides operators with the capability for timely and accurate display of both civil and military air traffic.

l. Radiant Mercury Hardware and Software. The Radiant Mercury Cross Domain Solution (CDS) allows data transfer traffic between both classified and unclassified networks onboard the P-8A.

m. ENTR(V)4 Receiver with Embedded Crypto. The tactical receiver interfaces with the Integrated Broadcast System receiving nationally transmitted tracks for situational awareness.

n. The Dual KIV-7M. The KIV-7M provides programmable link and multi-channel network encryption for High Frequency (HF) radio communications.

o. Advanced Digital Antenna Production (ADAP), Antenna Electronics (AE). The ADAP antenna electronics interfaces with the ADAP Controlled Reception Pattern Antenna (CRPA) antennas to insure availability of GPS signals to the aircraft.

p. Advance Digital Antenna Production (ADAP) Controlled Reception Pattern Antenna (CRPA). The ADAP CRPA enables reception of GPS signals to the aircraft.

q. KG-175 Encryptor Network Convergence System (NC) CNTRX, INMARSAT, IP Data. The KG-175 TACLANE provides network communications security on internet Protocol (IP) and Asynchronous Transfer Mode (ATM) networks used by the P-8A.

r. AN/APX-123A(V) IFF Transponder Digital. The IFF AN/APX-123A(V) transponder is capable of both Mode 5 and Mode S secure modes and provides own ship positional information.

s. KIV-78 IFF Mode 4/5 Cryptographic Applique. The KIV-78 is Type 1 NSA-certified COMSEC for IFF. The KIV-78 provides cryptographic and time-of-day services, concurrent Mode 4/5 operations as well as concurrent interrogator/transponder operations. The KIV-78 IFF system is deployed to identify cooperative, friendly systems.

t. KIV-701A Cryptographic Core Module. The KIV-701A encrypts the common data link that is used for line-of-sight secure transmission of video imagery to ground terminals and ships.

u. KY-100M, KY-58, KYV-5 for HF-121CD Radio. The KY-100M is a narrowband/wideband terminal that interoperates with TACTERM (CV-3591/KYV-5), MINTERM (KY-99A), VINSON (KY-57, KY-58), and SINCGARS. The KY-100M provides for secure voice and data communications in tactical airborne and ground environments and is a self-contained terminal that includes COMSEC. The KY-100M is based on the KY-99A architecture with enhanced interface capability. It includes KY-99A's operational modes and KY-58's operational modes.

v. AN/PYQ-10 V3 Simple Key Loader (SKL) with KOV-21 Cryptographic Applique. The SKL is a ruggedized, portable, hand-held fill device used for securely receiving, storing, and transferring data between compatible cryptographic and communications equipment. The SKL provides streamlined management of COMSEC key, Electronic Protection (EP) data, and Signal Operating Instructions (SOI). Cryptographic functions are performed by an embedded KOV-21 applique.

2. The highest level of classification of defense articles, components, and services included in this potential sale is SECRET.

3. If a technologically advanced adversary were to obtain knowledge of the specific hardware and software elements, the information could be used to develop countermeasures that might reduce weapon system effectiveness or be used in the development of a system with similar or advanced capabilities.

4. A determination has been made that Canada can provide substantially the same degree of protection for the sensitive technology being released as the U.S. Government. This sale is necessary in furtherance of the U.S. foreign policy and national security objectives outlined in the Policy Justification.

5. All defense articles and services listed in this transmittal have been authorized for release and export to the Government of Canada.

[FR Doc. 2024-23554 Filed 10-10-24; 8:45 am]

BILLING CODE 6001-FR-P